DEPARTMENT OF ENERGY

Federal Energy Regulatory Commission

Combined Notice of Filings #1

Take notice that the Commission received the following exempt wholesale generator filings:

Docket Numbers: EG14-34-000.

Applicants: Lone Valley Solar Park I LLC.

Description: Notice of Self-Certification of Exempt Wholesale Generator Status of Lone Valley Solar Park I LLC.

Filed Date: 3/26/14.

Accession Number: 20140326-5095.

Comments Due: 5 p.m. ET 4/16/14.

Docket Numbers: EG14-35-000.

Applicants: Lone Valley Solar Park II LLC.

Description: Notice of Self-Certification of Exempt Wholesale Generator Status of Lone Valley Solar Park II LLC.

Filed Date: 3/26/14.

Accession Number: 20140326-5099.

Comments Due: 5 p.m. ET 4/16/14.

Take notice that the Commission received the following electric rate filings:

Docket Numbers: ER10-3125-007; ER10-3243-002; ER10-3102-007; ER10-3245-001; ER10-3249-001; ER10-3250-001; ER10-3169-005; ER10-3100-007; ER12-2570-003; ER11-2639-001; ER10-3143-009; ER13-821-003; ER10-3107-007; ER10-3109-007; ER13-618-002; ER12-1301-002.

Applicants: AL Sandersville, LLC, Chandler Wind Partners, LLC, Effingham County Power, LLC, Foote Creek II, LLC, Foote Creek III, LLC, Foote Creek IV, LLC, Michigan Power Limited Partnership, MPC Generating, LLC, Panther Creek Power Operating, LLC, Ridge Crest Wind Partners, LLC, Scrubgrass Generating Company, L.P., Walton County Power, LLC, Washington County Power, LLC, Westwood Generation, LLC, Zone J Tolling Co., LLC, Sabine Cogen, LP.

Description: Supplement to January 22, 2014 Notice of Non-Material Change in Status of AL Sandersville, LLC, et. al.

Filed Date: 3/25/14.

Accession Number: 20140325-5141.

Comments Due: 5 p.m. ET 4/15/14.

Docket Numbers: ER13-2300-002.

Applicants: Arizona Public Service Company.

Description: Cancellation of Interruptible Trans Agreement Portion of Rate Schedule No. 198 to be effective 4/1/2014.

Filed Date: 3/25/14.

Accession Number: 20140325-5081.

Comments Due: 5 p.m. ET 4/15/14.

Docket Numbers: ER14-776-002.

Applicants: Ohio Valley Electric Corporation.

Description: Order Nos. 764, 764-A and 764-B Compliance Filing Amendment to be effective 11/12/2013.

Filed Date: 3/26/14.

Accession Number: 20140326-5089.

Comments Due: 5 p.m. ET 4/16/14.

Docket Numbers: ER14-1569-000.

Applicants: Dynegy Energy Services, LLC.

Description: Errata to March 24, 2013 Dynegy Energy Services, LLC tariff filing.

Filed Date: 3/25/14.

Accession Number: 20140325-5148.

Comments Due: 5 p.m. ET 4/15/14.

Docket Numbers: ER14-1581-000.

Applicants: Midcontinent Independent System Operator, Inc.

Description: 2014-03-25_SA 764/766 ATC D-T Update Amendment to be effective 5/25/2014.

Filed Date: 3/25/14.

Accession Number: 20140325-5117.

Comments Due: 5 p.m. ET 4/15/14.

Docket Numbers: ER14-1582-000.

Applicants: Midcontinent Independent System Operator, Inc.

Description: 2014-03-25_ATC D-T Update Batch 1 to be effective 5/25/2014.

Filed Date: 3/25/14.

Accession Number: 20140325-5121.

Comments Due: 5 p.m. ET 4/15/14.

Docket Numbers: ER14-1583-000.

Applicants: American Electric Power Service Corporation, Ohio Power Company, AEP Ohio Transmission Company, Inc., PJM Interconnection, L.L.C.

Description: AEP submits 40th Revised Service Agreement No. 1336 to be effective 9/26/2013.

Filed Date: 3/25/14.

Accession Number: 20140325-5128.

Comments Due: 5 p.m. ET 4/15/14.

Docket Numbers: ER14-1584-000.

Applicants: FirstEnergy Solutions Corp.

Description: Application of FirstEnergy Solutions Corp. under New Docket for authorization to sell electricity to two affiliated public utilities; The Potomac Edison Company and West Penn Power Company.

Filed Date: 3/25/14.

Accession Number: 20140325-5140.

Comments Due: 5 p.m. ET 4/15/14.

Docket Numbers: ER14-1585-000.

Applicants: Dynegy Kendall Energy, LLC, Dynegy Marketing and Trade, LLC.

Description: Request for Limited Waiver of Dynegy Kendall Energy, LLC, et. al.

Filed Date: 3/25/14.

Accession Number: 20140325-5149.

Comments Due: 5 p.m. ET 4/15/14.

Docket Numbers: ER14-1586-000.

Applicants: Dynegy Kendall Energy, LLC.

Description: Request for Limited Waiver of Dynegy Kendall Energy, LLC.

Filed Date: 3/25/14.

Accession Number: 20140325-5150.

Comments Due: 5 p.m. ET 4/15/14.

Docket Numbers: ER14-1587-000.

Applicants: Southwest Power Pool, Inc.

Description: 2154 Midwest Energy, Inc. NITSA NOA Notice of Cancellation to be effective 12/1/2013.

Filed Date: 3/26/14.

Accession Number: 20140326-5028.

Comments Due: 5 p.m. ET 4/16/14.

Docket Numbers: ER14-1588-000.

Applicants: KeyTex Energy, LLC.

Description: KeyTex Energy LLC, Notice of Cancellation of MBR Tariff to be effective 3/27/2014.

Filed Date: 3/26/14.

Accession Number: 20140326-5036.

Comments Due: 5 p.m. ET 4/16/14.

Docket Numbers: ER14-1589-000.

Applicants: Ohio Valley Electric Corporation

Description: Order No. 784 Compliance Filing to be effective 12/20/2013.

Filed Date: 3/26/14.

Accession Number: 20140326-5090.

Comments Due: 5 p.m. ET 4/16/14.

Docket Numbers: ER14-1590-000.

Applicants: Southwest Power Pool, Inc.

Description: Notice of Cancellation of Agreement To Sponsor Facilities Upgrades of Southwest Power Pool, Inc.

Filed Date: 3/26/14.

Accession Number: 20140326-5101.

Comments Due: 5 p.m. ET 4/16/14.

Docket Numbers: ER14-1591-000.

Applicants: Southwest Power Pool, Inc.

Description: Notice of Cancellation of American Electric Power Service Corporation Letter Agreement of Southwest Power Pool, Inc.

Filed Date: 3/26/14.

Accession Number: 20140326-5125.

Comments Due: 5 p.m. ET 4/16/14.

Docket Numbers: ER14-1592-000.

Applicants: Southwest Power Pool, Inc.

Description: Notice of Cancellation of Network Integration Transmission Service Agreement and Network Operating Agreement of Southwest Power Pool, Inc.

Filed Date: 3/26/14.

Accession Number: 20140326-5128.

Comments Due: 5 p.m. ET 4/16/14.

Docket Numbers: ER14-1593-000.

Applicants: New England Power Company.

Description: Notice of Cancellation of Interconnection Agreement with Lowell Cogeneration Co. to be effective 5/26/2014.

Filed Date: 3/26/14.

Accession Number: 20140326-5129.

Comments Due: 5 p.m. ET 4/16/14.

Take notice that the Commission received the following electric securities filings:

Docket Numbers: ES14-30-000.

Applicants: PJM Interconnection, L.L.C., PJM Settlement, Inc.

Description: Application of PJM Interconnection, L.L.C., and PJM Settlement, Inc. under Section 204 of the Federal Power Act for an order authorizing the issuance of securities.

Filed Date: 3/26/14.

Accession Number: 20140326-5102.

Comments Due: 5 p.m. ET 4/16/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2014.
Nathaniel J. Davis, Sr.,
Deputy Secretary.

[FR Doc. 2014-07430 Filed 4-2-14; 8:45 am]

BILLING CODE 6717-01-P